CORPORATION FOR NATIONAL AND COMMUNITY SERVICE

Guidance Conference Calls for Organizations Interested in Applying for a Learn and Serve America Program Grant

AGENCY: Corporation for National and Community Service.

ACTION: Notice of conference calls.

SUMMARY: The Corporation for National and Community Service is offering a series of teleconference calls for nonprofit organizations and institutions of higher education interested in applying for a Learn and Serve America program grant. These training teleconferences will familiarize organizations with the requirements of the Learn and Serve America programs and the steps in submitting an application via the eGrants system. The toll free number for these calls is (888) 552-5348 and the pass code is #76068. There will be 20 lines per call and they will be on a first come, first served basis.

DATES: The teleconference calls will take place on:

February 26, 2003—Wednesday—School/Community-Based

February 27, 2003—Thursday—Higher Education

March 4, 2003—Tuesday—School/Community-Based

March 5, 2003—Wednesday—Higher Education

March 12, 2003—Wednesday School/Community-Based & Higher Education

All teleconference calls will begin at 2 p.m. EST.

ADDRESSES: Our address is the Corporation for National and Community Service, Learn and Serve America, 9th Floor, 1201 New York Avenue, NW., Washington, DC 20525.

FOR FURTHER INFORMATION CONTACT: For further information regarding these conference calls, please contact Ms. Juanita Peoples (202-606-5000, Ext. 117) e-mail jpeoples@cns.gov.

Dated: February 19, 2003.
Amiko Matsumoto,
Acting Director, Learn and Serve America.

[FR Doc. 03-4309 Filed 2-21-03; 8:45 am]

BILLING CODE 6050-$$-P